DEPARTMENT OF TRANSPORTATION

Federal Highway Administration

Environmental Impact Statement: Cambria County, PA

AGENCY: Federal Highway Administration (FHWA), Department of Transportation (DOT).

ACTION: Notice of intent.

SUMMARY: The FHWA is issuing this notice to advise the public that an Environmental Impact Statement (EIS) will be prepared for a proposed transportation improvement project on S.R. 0056 (Route 56) in Johnstown, Cambria County, Pennsylvania.

FOR FURTHER INFORMATION CONTACT: David W. Cough, P.E., Director of Operations, Federal Highway Administration, Pennsylvania Division Office, 228 Walnut Street, Harrisburg, PA 17101-1720, (717) 221-3411 or Vincent S. Greenland, P.E., Project Manager, Pennsylvania Department of Transportation, District 9-0, 1620 North Juniata Street, Hollidaysburg, Pennsylvania 16648, (814) 696-7179.

SUPPLEMENTARY INFORMATION: The FHWA, in cooperation with the Pennsylvania Department of Transportation (PENNDOT), will prepare an EIS to identify and evaluate transportation improvements to Route 56 through the West End of Johnstown, Pennsylvania. Included in the overall project will be the development of a reasonable range of alternatives that meet the project need and supporting environmental documentation and analysis to recommend a preferred alternative for implementation. An extensive public outreach/involvement program has been developed specifically for this project.

Based on preliminary traffic studies performed as part of the Route 56 West End Traffic Study in 1998, improvements to the highway system through Johnstown's West End are necessary to improve traffic conditions. Identified project needs included safety, geometric deficiencies, deficient operational characteristics including poor access and traffic flow with heavy truck volumes, and transportation factors limiting economic vitality.

Possible alternatives to the project include: No build; transportation system management (TSM); relocation alternative to the east through Minersville and around Coopersdale connecting to S.R. 0403; relocation alternative to the east through Minersville and around Coopersdale crossing over 403 and the Conemaugh River prior to connecting back to Route 56 north of Oakhurst; partial relocation alternative that crosses the Conemaugh River north of Fairfield Avenue, follows S.R. 403 through Coopersdale and then crosses back over the Conemaugh River prior to connecting back to Route 56 north of Oakhurst; partial relocation alternative that runs along the Norfolk Southern railroad tracks and the Conemaugh River east of Morrelville and Oakhurst connecting back to Route 56 north of Oakhurst; relocation alternative to the east through Minersville that crosses the Conemaugh River southwest of Coopersdale and runs along the Norfolk Southern railroad tracks and the Conemaugh River east of Morrelville and Oakhurst connecting back to Route 56 north of Oakhurst; a relocation alternative that entails a combination of the alternatives described above; and two additional relocation alternatives yet to be defined. These alternatives will be the basis for a recommendation of an alternative to be carried forward for detailed environmental and engineering studies in the EIS. Incorporated into and studied with the various alternatives will be design variations of grade and alignment.

Letters describing the proposed action and soliciting comments will be sent to appropriate federal, state, and local agencies, and to private organizations and citizens who have previously expressed or are known to have interest in this project. Public involvement and agency coordination will be maintained throughout the development of the EIS.

To ensure that the full range of issues related to the proposed action are addressed and all significant issues are identified, comments and suggestions are invited from all interested parties. Comments or questions concerning this proposed action and the EIS should be directed to PENNDOT at the address posted above.

(Catalog of Federal Domestic Assistance Program Number 20.205, Highway Planning and Construction. The regulations implementing Executive Order 12372 regarding intergovernmental consultation on Federal programs and activities apply to this program.)

James A. Cheatham,
FHWA Division Administrator, Harrisburg, PA.

[FR Doc. 01-15022 Filed 6-13-01; 8:45 am]

BILLING CODE 4910-22-M